DEPARTMENT OF COMMERCE

International Trade Administration

United States-Mexico-Canada Agreement (USMCA), Article 10.12: Binational Panel Review: Notice of Request for Panel Review

AGENCY: United States Section, USMCA Secretariat, International Trade Administration, Department of Commerce.

ACTION: Notice of USMCA Requests for Panel Review.

SUMMARY: Two Requests for Panel Review were filed in the matter of Certain Softwood Lumber Products from Canada: Final Results of Antidumping Duty Administrative Review, Partial Rescission of Administrative Review, and Final Determination of No Shipments; 2023 with the U.S. Section of the USMCA Secretariat on August 28, 2025. The first Request for Panel Review was filed on behalf of Resolute FP Canada Inc., the Conseil de l'industrie forestière du Quebec, the Ontario Forest Industries Association, and each association's respective individual members (collectively Central Canada) as well as Plaster Rock Lumber Corporation and CHAP Alliance, Inc. The second was filed by The Government of Canada, the Governments of Alberta, British Columbia, Ontario, and Québec; Alberta Softwood Lumber Trade Council, British Columbia Lumber Trade Council; Canfor Corporation, Canadian Forest Products Ltd., Canfor Wood Products Marketing Ltd., Canfor Fox Creek Ltd., Canfor Whitecourt Ltd., Interfor Corporation, Interfor Sales & Marketing Ltd., EACOM Timber Corporation, Chaleur Forest Products Inc., Chaleur Forest Products LP, J.D. Irving, Limited, Tolko Marketing and Sales Ltd. and Tolko Industries Ltd., Gilbert Smith Forest Products Ltd., and West Fraser Mills Ltd. The USMCA Secretariat has assigned case number USA-CDA-2025-10.12-02 to this request.

FOR FURTHER INFORMATION CONTACT: Vidya Desai, United States Secretary, USMCA Secretariat, Room 2061, 1401 Constitution Avenue NW, Washington, DC 20230, 202-482-5438.

SUPPLEMENTARY INFORMATION: The final results of the investigation under review were determined by the United States Department of Commerce and were published in the Federal Register on July 29, 2025 (90 FR 35,666).

Article 10.12 of Chapter 10 of USMCA provides a dispute settlement mechanism involving trade remedy determinations issued by the Government of the United States, the Government of Canada, and the Government of Mexico. Following a Request for Panel Review, a Binational Panel is composed to review the trade remedy determination being challenged and issue a binding Panel Decision. There are established USMCA Rules of Procedure for Article 10.12 (Binational Panel Reviews), which were adopted by the three governments for panels requested pursuant to Article 10.12(2) of USMCA which requires Requests for Panel Review to be published in accordance with Rule 40. For the complete Rules, please see https://can-mex-usa-sec.org/secretariat/agreement-accord-acuerdo/usmca-aceum-tmec/rules-regles-reglas/article-article-articulo_10_12.aspx?lang=eng.

The Rules provide that:

(a) A Party or interested person may challenge the final determination in whole or in part by filing a Complaint in accordance with Rule 44 no later than 30 days after the filing of the first Request for Panel Review (the deadline for filing a Complaint is September 29, 2025);

(b) A Party, an investigating authority or other interested person who does not file a Complaint but who intends to participate in the panel review shall file a Notice of Appearance in accordance with Rule 45 no later than 45 days after the filing of the first Request for Panel Review (the deadline for filing a Notice of Appearance is October 14, 2025);

(c) The panel review will be limited to the allegations of error of fact or law, including challenges to the jurisdiction of the investigating authority, that are set out in the Complaints filed in the panel review and to the procedural and substantive defenses raised in the panel review.

Dated: September 2, 2025.
Vidya Desai,
United States Secretary, USMCA Secretariat.

[FR Doc. 2025-16975 Filed 9-3-25; 8:45 am]

BILLING CODE 3510-GT-P